ENVIRONMENTAL PROTECTION AGENCY

[EPA-HQ-OW-2003-0026; FRL-10661-01-OMS]

Agency Information Collection Activities; Submission to the Office of Management and Budget for Review and Approval; Comment Request; National Water Quality Inventory Reports (Renewal)

AGENCY: Environmental Protection Agency (EPA).

ACTION: Notice.

SUMMARY: The Environmental Protection Agency (EPA) has submitted an information collection request (ICR), National Water Quality Inventory Reports (EPA ICR Number 1560.13, OMB Control Number 2040-0071) to the Office of Management and Budget (OMB) for review and approval in accordance with the Paperwork Reduction Act. This is a proposed 3-year extension of the ICR, which is currently approved through March 31, 2023. Public comments were previously requested via the Federal Register on July 19, 2022 during a 60-day comment period. This notice allows for an additional 30 days for public comments.

DATES: Comments may be submitted on or before March 10, 2023.

ADDRESSES: Submit your comments, referencing Docket ID No. EPA-HQ-2003-0026, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Edward Laird, Watershed Restoration, Assessment and Protection Division (WRAPD), Office of Wetlands, Oceans, and Watersheds, Mail Code: 4503T, Environmental Protection Agency, 1200 Pennsylvania Ave. NW, Washington, DC 20460; telephone number: 202-566-2848; fax number: 202-566-1437; email address: laird.edward@epa.gov.

SUPPLEMENTARY INFORMATION: This is a proposed 3-year extension of the ICR, which is currently approved through March 31, 2023. An agency may not conduct or sponsor and a person is not required to respond to a collection of information unless it displays a currently valid OMB control number.

Public comments were previously requested via the Federal Register (87 FR 43029) on July 19, 2022 during a 60-day comment period. This notice allows for an additional 30 days for public comments. Supporting documents that explain in detail the information that the EPA will be collecting are available in the public docket for this ICR (Docket ID EPA-HQ-OW-2003-0026). The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Water Act Section 305(b) reports contain information on whether waters assessed by a state meet the state's water quality standards, and, when waters are impaired, the pollutants and potential sources affecting water quality. This information helps states and the public track progress in addressing water pollution. Section 303(d) of the Clean Water Act requires states to identify and rank waters that cannot meet water quality standards (WQS) following the implementation of technology-based controls. Under Section 303(d), states are also required to establish total maximum daily loads (TMDLs) for listed waters not meeting standards because of pollutant discharges. In developing the Section 303(d) lists, states are required to consider various sources of water quality related data and information, including the Section 305(b) state water quality reports. Section 106(e) requires that states annually update monitoring data and use it in their Section 305(b) report. Section 314(a) requires states to report on the condition of their publicly owned lakes within the Section 305(b) report.

During the period covered by this ICR renewal, respondents will: complete their 2024 Section 305(b) reports and 2024 Section 303(d) lists; complete their 2026 Section 305(b) reports and 2026 Section 303(d) lists; transmit annual electronic updates of ambient monitoring data via the Water Quality Exchange; and continue to develop TMDLs according to their established schedules. EPA will prepare biennial updates on assessed and impaired waters for Congress and the public for the 2024 reporting cycle and for the 2026 cycle, and EPA will review 303(d) list and TMDL submissions from respondents.

Form Numbers: None.

Respondents/affected entities: States, Territories and Tribes with Clean Water Act (CWA) responsibilities.

Respondent's obligation to respond: Mandatory: Integrated Water Quality Inventory Reports (Clean Water Act Sections 305(b), 303(d), 314(a), and 106(e)).

Estimated number of respondents: 59 (total).

Frequency of response: Biennial.

Total estimated burden: 3,696,243 hours (per year). Burden is defined at 5 CFR 1320.03(b).

Total estimated cost: $243,597,191 (per year), includes $0 annualized capital or operation & maintenance costs.

Changes in Estimates: There is a decrease of 10,944 hours in the total estimated respondent burden compared with the ICR currently approved by OMB. This decrease is due to efficiencies gained from the use of EPA's modernized Assessment and Total Maximum Daily Load Tracking and Implementation System (ATTAINS) database and the integration of EPA's data and information systems to better support reporting, tracking water quality protection, and restoration actions. These efficiencies streamlined water quality assessment and reporting by reducing paper copy transactions and improving electronic data exchange.

Courtney Kerwin,
Director, Regulatory Support Division.

[FR Doc. 2023-02687 Filed 2-7-23; 8:45 am]

BILLING CODE 6560-50-P